DEPARTMENT OF ENERGY

Office of International Regimes and Agreements; Proposed Subsequent Arrangement

AGENCY: Department of Energy.

ACTION: Notice of Proposed Subsequent Arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and Argentina and the Agreement for Cooperation in the Peaceful Uses of Nuclear Energy between the United States and Brazil.

This subsequent arrangement concerns the retransfer of two fission counters from the Instrumentation and Control Department, National Atomic Energy Commission, Argentina, to the IPEN/MB/01 Research Reactor, San Pablo, Brazil. The fission counters each contain .01 g U235. IPEN/MB/01 Research Reactor is authorized to receive nuclear material pursuant to the U.S.-Brazil Agreement for Cooperation on Peaceful Uses of Nuclear Energy.

In accordance with Section 131 of the Atomic Energy Act of 1954, as amended, we have determined that this subsequent arrangement will not be inimical to the common defense and security.

This subsequent arrangement will take effect no sooner than 15 days after the date of publication of this notice.

Dated: March 29, 2007.
For the Department of Energy.
Richard S. Goorevich,
Director, Office of International Regimes and Agreements.

[FR Doc. 07-1666 Filed 4-3-07; 8:45 am]

BILLING CODE 6450-01-M